DEPARTMENT OF ENERGY

Federal Energy Regulatory Commission

Combined Notice of Filings

Take notice that the Commission has received the following Natural Gas Pipeline Rate and Refund Report filings:

Docket Numbers: CP18-102-001.

Applicants: Cheyenne Connector, LLC.

Description: Amendment to Certificate of Public Convenience and Necessity of Cheyenne Connector, LLC.

Filed Date: 2/25/20.

Accession Number: 20200225-5032.

Comments Due: 5 p.m. ET 3/9/20.

Docket Numbers: CP18-103-001.

Applicants: Rockies Express Pipeline LLC.

Description: Amendment to Certificate of Public Convenience and Necessity of Rockies Express Pipeline LLC.

Filed Date: 2/24/20.

Accession Number: 20200224-5151.

Comments Due: 5 p.m. ET 3/9/20.

Docket Numbers: RP20-546-000.

Applicants: Vector Pipeline L. P.

Description: Annual Fuel Use Report for 2019 of Vector Pipeline L. P. under RP20-546.

Filed Date: 2/25/20.

Accession Number: 20200225-5088.

Comments Due: 5 p.m. ET 3/9/20.

Docket Numbers: RP20-547-000.

Applicants: Algonquin Gas Transmission, LLC.

Description: § 4(d) Rate Filing: NRA Name Change Cleanup GenOn to Canal to be effective 3/27/2020.

Filed Date: 2/25/20.

Accession Number: 20200225-5101.

Comments Due: 5 p.m. ET 3/9/20.

Docket Numbers: RP20-548-000.

Applicants: Viking Gas Transmission Company.

Description: § 4(d) Rate Filing: Annual LMCRA—Spring 2020 to be effective 4/1/2020.

Filed Date: 2/25/20.

Accession Number: 20200225-5147.

Comments Due: 5 p.m. ET 3/9/20.

Docket Numbers: RP20-516-001.

Applicants: Gulf South Pipeline Company, LLC.

Description: Tariff Amendment: Amendment to Docket No. RP20-516-000 to be effective 4/1/2020.

Filed Date: 2/26/20.

Accession Number: 20200226-5029.

Comments Due: 5 p.m. ET 3/9/20.

Docket Numbers: RP20-549-000.

Applicants: Rover Pipeline LLC.

Description: § 4(d) Rate Filing: Housekeeping on 2-26-20 to be effective 3/27/2020.

Filed Date: 2/26/20.

Accession Number: 20200226-5025.

Comments Due: 5 p.m. ET 3/9/20.

Docket Numbers: RP20-550-000.

Applicants: Midcontinent Express Pipeline LLC.

Description: Compliance filing Annual Report of Operational Purchases and Sales 2020.

Filed Date: 2/26/20.

Accession Number: 20200226-5038.

Comments Due: 5 p.m. ET 3/9/20.

Docket Numbers: RP20-551-000.

Applicants: Guardian Pipeline, L.L.C.

Description: § 4(d) Rate Filing: EPCR Semi-Annual Adjustment—Spring 2020 to be effective 4/1/2020.

Filed Date: 2/26/20.

Accession Number: 20200226-5045.

Comments Due: 5 p.m. ET 3/9/20.

Docket Numbers: RP20-552-000.

Applicants: Texas Eastern Transmission, LP.

Description: § 4(d) Rate Filing: Negotiated Rates—EcoEnergy eff 3-1-2020 to be effective 3/1/2020.

Filed Date: 2/26/20.

Accession Number: 20200226-5049.

Comments Due: 5 p.m. ET 3/9/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2020.
Nathaniel J. Davis, Sr.,
Deputy Secretary.

[FR Doc. 2020-04396 Filed 3-3-20; 8:45 am]

BILLING CODE 6717-01-P